DEPARTMENT OF THE INTERIOR

Fish and Wildlife Service

[FWS-R4-ES-2009-N225; 40120-1112-0000-F2]

Receipt of 32 Applications for Incidental Take Permits for Single Family and Duplex Residential Developments on the Fort Morgan Peninsula, Baldwin County, AL

AGENCY: Fish and Wildlife Service, Interior.

ACTION: Notice: Receipt of applications for incidental take permits (ITPs) for Habitat Conservation Plans (HCPs); availability of proposed HCPs and environmental assessment (EA); request for comment.

SUMMARY: We, the Fish and Wildlife Service, announce the availability of proposed HCPs, 32 accompanying ITP applications, and an EA related to proposed developments that would take the Alabama beach mouse (Peromyscus polionotus ammobates) on Fort Morgan Peninsula, Baldwin County, Alabama. The HCPs analyze the take of the federally endangered Alabama beach mouse incidental to constructing 28 new single-family and replacing four existing single-family homes with four duplex residences (Projects). The 24 individual applicants request a total of 32 ITPs under the Endangered Species Act of 1973 (Act), as amended. The Applicants' HCPs describe the mitigation and minimization measures proposed to address the effects on the species.

DATES: We must receive any written comments on the ITP applications, EA, and HCPs at our Regional Office (see ADDRESSES) on or before December 14, 2009.

ADDRESSES: Documents will be available for public inspection by appointment during normal business hours at the Fish and Wildlife Service's Regional Office, 1875 Century Boulevard, Suite 200, Atlanta, GA 30345. Send your comments to the same address (Attn: David Dell); or to Field Supervisor, 1208-B Main Street, Daphne, Alabama 36526.

FOR FURTHER INFORMATION CONTACT: Mr. David Dell, Regional HCP Coordinator, (See ADDRESSES), telephone: 404/679-7313; or Mr. Darren LeBlanc, Field Office Project Manager, at the Alabama Field Office (See ADDRESSES), telephone: 251/441-5859.

SUPPLEMENTARY INFORMATION: We announce the availability of the proposed HCPs, 32 accompanying ITP applications, and an EA, which analyzes the take of the Alabama beach mouse incidental to the Projects. This group of similar applications has been collected into what we refer to as “ABM Batch V” for efficiency in their review. The applicants request 50-year ITPs under section 10(a)(1)(B) of the Endangered Species Act of 1973 (Act; 16 U.S.C. 1531 et seq.), as amended.

We specifically request information and opinions from the public via this notice on our proposed Federal action, including identification of any other aspects of the human environment not already identified in the EA pursuant to NEPA regulations (40 CFR 1506.6). Further, we specifically solicit information regarding the adequacy of the HCPs per 50 CFR parts 13 and 17.

An assessment of the likely environmental impacts associated with the implementation of the proposed projects, the EA considers the environmental consequences of a no-action alternative, no-minimization, and the proposed action. The proposed action alternative is issuance of 32 ITPs and implementation of the HCPs as submitted by the Applicants. The HCP covers activities associated with the construction and maintenance of residences on 32 discrete lots totaling 16.9 acres on the Fort Morgan Peninsula. Under the preferred alternative, project development would result in the overall loss of 3.58 acres of ABM habitat. Avoidance, minimization and mitigation measures include a reduced design footprint, on-site land management to maintain use of the project sites by Alabama beach mice, and funding off-site habitat acquisition and management.

Public Comments

If you wish to comment, you may submit comments by any one of several methods. Please reference “ABM Batch V” in such comments. You may mail comments to the Fish and Wildlife Service's Regional Office (see ADDRESSES). You may also comment via the internet to david_dell@fws.gov. Please include your name and return address in your internet message. If you do not receive a confirmation from us that we have received your internet message, contact us directly at either telephone number listed under FOR FURTHER INFORMATION CONTACT.

Finally, you may hand-deliver comments to either of our offices listed under ADDRESSES. Before including your address, phone number, e-mail address, or other personal identifying information in your comment, you should be aware that your entire comment—including your personal identifying information—may be made publicly available at any time. While you can ask us in your comment to withhold your personal identifying information from public review, we cannot guarantee that we will be able to do so.

Covered Area

The area encompassed under the HCP and ITP applications, the Fort Morgan Peninsula, extends over 30 miles from the Alabama-Florida border. Alabama beach mice historically ranged throughout the peninsula, but are now largely restricted to the western half. The following property owners have applied for ITPs in ABM Batch V:

Donald Dixon TE218224-0

Hogue Crossley TE218227-0

William Kenney TE218247-0

Harry Turpin TE218238-0

Aubrey Lucas TE218248-0, TE218249-0

Frances Bridges TE218251-0

Charles Minick TE218274-0

David Newton TE218275-0

Robert Fischer TE218276-0, TE218277-0

Boykin Properties TE218280-0

Becky Harris TE218281-0, TE218283-0

Spencer Harris TE218284-0, TE218285-0

Clinton Adams TE218288-0

Zachary Hutchens TE218291-0

Suzanne Wilcox TE218292-0

James Kastner TE218295-0

Timothy Kiely TE218326-0

Laureen Eick-Benson TE218329-0

Robert Prescott TE218330-0

Stuart Starrett TE218333-0

Christina Petrig TE218336-0, TE218354-0, TE218355-0, TE218356-0, TE218357-0

Andrew Marcotte TE218358-0

Mark Link TE218359-0

Tom Martin Homebuilders TE218362-0.

Next Steps

We will evaluate these ITP applications, including the HCPs and any comments we receive, to determine whether these applications meet the requirements of section 10(a)(1)(B) of the Act. We will also evaluate whether issuance of section 10(a)(1)(B) ITPs complies with section 7 of the Endangered Species Act by conducting an intra-Service section 7 consultation. We will use the results of this consultation, in combination with the above findings, in our final analysis to determine whether or not to issue the 32 ITPs. If we determine that the requirements are met, we will issue the ITPs for the incidental take of the Alabama beach mouse.

Authority

We provide this notice under section 10 of the Act (16 U.S.C. 1531 et seq.) and NEPA regulations (40 CFR 1506.6).

Dated: October 5, 2009.
Mark Musaus,
Acting Regional Director.

[FR Doc. E9-27275 Filed 11-12-09; 8:45 am]

BILLING CODE 4310-55-P